DEPARTMENT OF THE TREASURY

Submission for OMB Review; Comment Request

September 10, 2012.

The Department of the Treasury will submit the following information collection request to the Office of Management and Budget (OMB) for review and clearance in accordance with the Paperwork Reduction Act of 1995, Public Law 104-13, on or after the date of publication of this notice.

DATES: Comments should be received on or before October 15, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0004.

Type of Review: Extension without change of a currently approved collection.

Title: Special Form of Request for Payment of U.S. Savings and Retirement Securities Where Use of a Detached Request is Authorized.

Form: PD F 1522 E.

Abstract: The information is requested to establish ownership and request for payment of United States Savings Bonds, Savings Notes, Retirement Plan Bonds, and Individual Retirement Bonds.

Affected Public: Individuals or Households.

Estimated Total Burden Hours: 14,000.

OMB Number: 1535-0014.

Type of Review: Extension without change of a currently approved collection.

Title: Claim for Lost, Stolen or Destroyed United States Registered Securities.

Form: PD F 1025 E.

Abstract: The information is requested to establish ownership and support a request for relief due to the loss, theft, or destruction of United States Registered Securities.

Affected Public: Individuals or Households.

Estimated Total Burden Hours: 460.

OMB Number: 1535-0015.

Type of Review: Extension without change of a currently approved collection.

Title: Report/Application for Relief on Account of Loss, Theft or Destruction of U.S. Bearer Securities (Organizations).

Form: PD F 1022 E.

Abstract: The information is requested to establish ownership and support a request for relief due to the loss, theft, or destruction of United States Bearer Securities.

Affected Public: Private Sector: Businesses or other for-profits.

Estimated Total Burden Hours: 92.

OMB Number: 1535-0016.

Type of Review: Extension without change of a currently approved collection.

Title: Report/Application for Relief on Account of Loss, Theft, or Destruction of U.S. Bearer Securities (Individuals).

Form: PD F 1022-1 E.

Abstract: The information is requested to establish ownership and support a request for relief due to the loss, theft, or destruction of United States Bearer Securities owned by individuals.

Affected Public: Individuals or Households.

Estimated Total Burden Hours: 92.

OMB Number: 1535-0048.

Type of Review: Revision of a currently approved collection.

Title: Certificate of Identity.

Form: PD F 0385 E.

Abstract: The information is requested to establish the identity of the owner of U.S. Savings Securities in a claim for payment by a disinterested person.

Affected Public: Individuals or Households.

Estimated Total Burden Hours: 835.

OMB Number: 1535-0064.

Type of Review: Revision of a currently approved collection.

Title: Description of United States Savings Bonds Series HH/H and Description of United States Bonds/Notes.

Form: PD F 2490 E, 1980 E.

Abstract: The information collected is necessary to obtain information describing an owner's holding of United States Securities.

Affected Public: Individuals or Households.

Estimated Total Burden Hours: 800.

OMB Number: 1535-0067.

Type of Review: Extension without change of a currently approved collection.

Title: Affidavit of Forgery for United States Savings Bonds.

Form: PD F 0974 E.

Abstract: The information is requested to establish whether the registered owner signed the request for payment or if the signature was a forgery.

Affected Public: Individuals or Households.

Estimated Total Burden Hours: 625.

OMB Number: 1535-0100.

Type of Review: Extension without change of a currently approved collection.

Title: Affidavit by Individual Surety.

Form: PD F 4094 E.

Abstract: The information is requested to support a request to serve as surety for an indemnification agreement on a Bond of Indemnity.

Affected Public: Individuals or Households.

Estimated Total Burden Hours: 460.

Robert Dahl,
Treasury PRA Clearance Officer.

[FR Doc. 2012-22543 Filed 9-12-12; 8:45 am]

BILLING CODE 4810-39-P